SURFACE TRANSPORTATION BOARD

[Docket No. AB 33 (Sub-No. 326X)]

Union Pacific Railroad Company—Abandonment Exemption—in Alameda County, Cal.

Union Pacific Railroad Company (UP) has filed a verified notice of exemption under 49 CFR pt. 1152 subpart F—Exempt Abandonments to abandon all of its remaining trackage on Alameda Island in Alameda County, Cal. (the Line). The Line totals approximately 4.3 miles and consists of five rail segments: (1) UP's Alameda Industrial Lead, from milepost 10.0 near Fruitvale to milepost 10.4 near Lincoln Jct.; (2) the Alameda Industrial Lead from milepost 16.0 near Mastic Jct. to milepost 18.2 near West Alameda; (3) the former South Pacific Coast Railway mainline from milepost 5.0 at West Alameda to milepost 6.1 at Pacific Jct.; (4) the connection between the Alameda Industrial Lead at milepost 18.0 and South Pacific Coast milepost 5.4 near West Alameda; and (5) track #7, the connection between the Alameda Belt Line near St. Charles Avenue and the Alameda Industrial Lead at its milepost 16.5 near Constitution Way. The Line also includes all other UP ancillary, industrial, switching, siding, and spur trackage on Alameda Island and traverses United States Postal Service Zip Codes 94501 and 94601.¹

¹ In its combined environmental and historic report, UP notes that because the Line was used in electric interurban service from 1911 to 1940, it appeared to have been reclassified by then-owner Southern Pacific Railroad and viewed as an unregulated switching spur. UP views the Line as potentially falling under STB jurisdiction and is seeking exempt abandonment authority to clarify the record with regard to the Line.

UP has certified that: (1) No local traffic has moved over the Line for at least two years; (2) no overhead traffic has moved over the Line for at least two years and, therefore, there is no need to reroute any traffic; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will become effective on July 20, 2016, unless stayed pending reconsideration. Petitions to stay that do not involve environmental issues,² formal expressions of intent to file an OFA under 49 CFR 1152.27(c)(2),³ and interim trail use/rail banking requests under 49 CFR 1152.29 must be filed by June 30, 2016. Petitions to reopen or requests for public use conditions under 49 CFR 1152.28 must be filed by July 11, 2016, with the Surface Transportation Board, 395 E Street SW., Washington, DC 20423-0001.

² The Board will grant a stay if an informed decision on environmental issues (whether raised by a party or by the Board's Office of Environmental Analysis (OEA) in its independent investigation) cannot be made before the exemption's effective date. See Exemption of Out-of-Serv. Rail Lines, 5 I.C.C. 2d 377 (1989). Any request for a stay should be filed as soon as possible so that the Board may take appropriate action before the exemption's effective date.

³ Each OFA must be accompanied by the filing fee, which is currently set at $1,600. See 49 CFR 1002.2(f)(25).

A copy of any petition filed with the Board should be sent to UP's representative: Jeremy M. Berman, 1400 Douglas St., #1580, Omaha, NE 68179.

If the verified notice contains false or misleading information, the exemption is void ab initio.

UP has filed a combined environmental and historic report that addresses the effects, if any, of the abandonment on the environment and historic resources. OEA will issue an environmental assessment (EA) by June 24, 2016. Interested persons may obtain a copy of the EA by writing to OEA (Room 1100, Surface Transportation Board, Washington, DC 20423-0001) or by calling OEA at (202) 245-0305. Assistance for the hearing impaired is available through the Federal Information Relay Service at (800) 877-8339. Comments on environmental and historic preservation matters must be filed within 15 days after the EA becomes available to the public.

Environmental, historic preservation, public use, or interim trail use/rail banking conditions will be imposed, where appropriate, in a subsequent decision.

Pursuant to 49 CFR 1152.29(e)(2), UP shall file a notice of consummation with the Board to signify that it has exercised the authority granted and fully abandoned the Line. If consummation has not been effected by UP's filing of a notice of consummation by June 20, 2017, and there are no legal or regulatory barriers to consummation, the authority to abandon will automatically expire.

Board decisions and notices are available on our Web site at “WWW.STB.DOT.GOV.”

Decided: June 15, 2016.
By the Board, Rachel D. Campbell, Director, Office of Proceedings.
Raina S. Contee,
Clearance Clerk.

[FR Doc. 2016-14469 Filed 6-17-16; 8:45 am]

BILLING CODE 4915-01-P